DEPARTMENT OF THE TREASURY

Submission for OMB Review; Comment Request

March 2, 2000.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before April 10, 2000 to be assured of consideration.

Departmental Offices Community Development Financial Institutions (CDFI) Fund

OMB Number: New.

Form Number: CDFI Form 0012 (Public) and CDFI Form 0013 (Private).

Type of Review: New collection.

Title: Survey on Lending in Indian Country.

Description: The data from this survey will provide information necessary for private lenders and government agencies to respond effectively to the diverse problems Native Americans confront in gaining access to capital.

Respondents: Business or other for-profit, State, Local or Tribal Government.

Estimated Number of Respondents: 1,000.

Estimated Burden Hours Per Respondent: 30 minutes.

Frequency of Response: Other (one-time only).

Estimated Total Reporting Burden: 500 hours.

Clearance Officer: Lois K. Holland (202) 622-1563, Departmental Offices, Room 2110, 1425 New York Avenue, NW., Washington, DC 20220.

OMB Reviewer: Alexander T. Hunt (202) 395-7860, Office of Management and Budget, Room 10202, New Executive Office Building, Washington, DC 20503.

Lois K. Holland,
Departmental Reports, Management Officer.

[FR Doc. 00-5857 Filed 3-9-00; 8:45 am]

BILLING CODE 4810-25-M